DEPARTMENT OF ENERGY

Federal Energy Regulatory Commission

[Docket No. EL16-72-000]

NRG Power Midwest, LP; Notice of Institution of Section 206 Proceeding and Refund Effective Date

On June 16, 2016, the Commission issued an order in Docket No. EL16-72-000, pursuant to section 206 of the Federal Power Act (FPA), 16 U.S.C. 824e (2012), instituting an investigation into the justness and reasonableness of NRG Power Midwest, LP's Revised Reactive Rate Schedule. NRG Power Midwest, LP, 155 FERC ¶ 61,256 (2016).

The refund effective date in Docket No. EL16-72-000, established pursuant to section 206(b) of the FPA, will be the date of publication of this notice in the Federal Register.

Dated: June 16, 2016.
Kimberly D. Bose,
Secretary.

[FR Doc. 2016-14767 Filed 6-21-16; 8:45 am]

BILLING CODE 6717-01-P